DEPARTMENT OF LABOR

Employment and Training Administration

Investigations Regarding Eligibility To Apply for Worker Adjustment Assistance

Petitions have been filed with the Secretary of Labor under Section 221(a) of the Trade Act of 1974 (“the Act”) and are identified in the Appendix to this notice. Upon receipt of these petitions, the Director of the Office of Trade Adjustment Assistance, Employment and Training Administration, has instituted investigations pursuant to Section 221(a) of the Act.

The purpose of each of the investigations is to determine whether the workers are eligible to apply for adjustment assistance under Title II, Chapter 2, of the Act. The investigations will further relate, as appropriate, to the determination of the date on which total or partial separations began or threatened to begin and the subdivision of the firm involved.

The petitioners or any other persons showing a substantial interest in the subject matter of the investigations may request a public hearing, provided such request is filed in writing with the Director, Office of Trade Adjustment Assistance, at the address shown below, not later than August 31, 2015.

Interested persons are invited to submit written comments regarding the subject matter of the investigations to the Director, Office of Trade Adjustment Assistance, at the address shown below, not later than August 31, 2015.

The petitions filed in this case are available for inspection at the Office of the Director, Office of Trade Adjustment Assistance, Employment and Training Administration, U.S. Department of Labor, Room N-5428, 200 Constitution Avenue NW., Washington, DC 20210.

Signed at Washington, DC, this 27th day of July 2015.
Del Min Chen,
Certifying Officer, Office of Trade Adjustment Assistance.

Appendix
[66 TAA petitions instituted between 6/29/15 and 7/24/15]
TA-W | Subject firm (petitioners) | Location | Date of institution | Date of petition
86135 | Harrington Machine & Tool Co., Inc. (Company) | Franklin, PA | 06/29/15 | 06/26/15
86136 | Verizon (Workers) | Lake Mary, FL | 06/29/15 | 06/26/15
86137 | Dex Media (Union) | Williamsville, NY | 06/29/15 | 06/26/15
86138 | Verizon (Workers) | Richard, TX | 06/29/15 | 06/25/15
86139 | JMC Steel Group (Union) | Whertland, PA | 06/29/15 | 06/29/15
90000 | Genpact (Workers) | Wilkes Barre, PA | 06/30/15 | 06/29/15
90001 | Midland Credit Management (State/One-Stop) | San Diego, CA | 06/30/15 | 06/29/15
90002 | Caterpillar Inc. (State/One-Stop) | Peoria, IL | 06/30/15 | 06/29/15
90003 | QBE of the Americas (State/One-Stop) | New York, NY | 07/01/15 | 06/30/15
90004 | RBS Citizens, National Association (State/One-Stop) | Bridgeport, CT | 07/01/15 | 06/29/15
90005 | Genesis Healthcare (Workers) | Albuquerque, NM | 07/02/15 | 07/01/15
90006 | Kanzaki Specialty Papers (Workers) | Ware, MA | 07/02/15 | 07/01/15
90007 | Swiss International Airlines (State/One-Stop) | East Meadow, NY | 07/06/15 | 07/03/15
90008 | ATOS IT Solutions and Services, Inc. (State/One-Stop) | Purchase, NY | 07/06/15 | 07/03/15
90009 | Bechtel (State/One-Stop) | Glendale, AZ | 07/06/15 | 07/02/15
90010 | Honeywell, Software Development Center (State/One-Stop) | Lynnwood, WA | 07/07/15 | 07/06/15
90011 | Wilson Creek Energy LLC (Company) | Friedens, PA | 07/07/15 | 07/07/15
90012 | Medical Information Management Solutions (State/One-Stop) | Phoenix, AZ | 07/08/15 | 07/07/15
90013 | National Oilwell Vargo (Union) | Springfield, OH | 07/08/15 | 07/07/15
90014 | Kinedyne (State/One-Stop) | Lawrence, KS | 07/08/15 | 07/07/15
90015 | Startek USA, Inc. (Workers) | Greeley, CO | 07/08/15 | 07/07/15
90016 | GrafTech USA LLC (Company) | Saint Marys, PA | 07/09/15 | 07/08/15
90017 | Moneygram (State/One-Stop) | Brooklyn Center, MN | 07/10/15 | 07/09/15
90018 | Eaton Corporation—Watertown (Company) | Watertown, WI | 07/10/15 | 06/23/15
90019 | East Wind Code, Ltd. (Workers) | New York, NY | 07/10/15 | 07/08/15
90020 | AT&T Mobility (Workers) | Springfield, IL | 07/10/15 | 07/07/15
90021 | Digitec, Inc. (Company) | Milford, NE | 07/13/15 | 07/09/15
90022 | Chemtura (Formally Known as Bio-Lab) (State/One-Stop) | Adrian, MI | 07/13/15 | 07/10/15
90023 | WebCo (State/One-Stop) | Sandsprings, OK | 07/13/15 | 07/10/15
90024 | QBE Americas (State/One-Stop) | Irvine, CA | 07/13/15 | 07/10/15
90025 | Alorica (State/One-Stop) | Tulsa, OK | 07/13/15 | 07/10/15
90026 | Abbott Medical Optics (State/One-Stop) | Santa Ana, CA | 07/13/15 | 07/10/15
90027 | Kongsberg Power Products Systems Inc, Kongsberg Automotive (Company) | Swainsboro, GA | 07/14/15 | 07/13/15
90028 | Mondelez International Bakery (Company) | Philadelphia, PA | 07/14/15 | 07/13/15
90029 | Powerbar, Premier Nutrition (Workers) | Boise, ID | 07/15/15 | 06/19/15
90030 | SimplexGrinnell LP d/b/a Tyco Fire Protection Product (Company) | Westminister, MA | 07/15/15 | 07/10/15
90031 | CUDD Energy Services (Workers) | Canton, PA | 07/15/15 | 07/14/15
90032 | International Rectifier (State/One-Stop) | El Segundo, CA | 07/15/15 | 07/14/15
90033 | AT&T Telecommunications Relay Services (Workers) | New Castle, PA | 07/15/15 | 07/14/15
90034 | AGFA Corporation (State/One-Stop) | City of Industry, CA | 07/16/15 | 07/15/15
90035 | Airtex Products L.P. (Company) | Fairfield, IL | 07/16/15 | 07/15/15
90036 | Bush Industries, Inc. of PA (Company) | Erie, PA | 07/16/15 | 07/15/15
90037 | Bush Industries, Inc. (Company) | Jamestown, NY | 07/16/15 | 07/15/15
90038 | Cleveland Lease Service (State/One-Stop) | Cleveland, OK | 07/16/15 | 07/15/15
90039 | Compass Group/Flick at Mondelez (Workers) | Wilkes-Barre, PA | 07/16/15 | 07/15/15
90040 | Kinze Mfg, Inc. (Workers) | Williamsburg, IA | 07/16/15 | 07/15/15
90041 | Powerex, Inc. (Company) | Youngwood, PA | 07/16/15 | 07/15/15
90042 | SECO/Warwick Corporation (Company) | Meadville, PA | 07/20/15 | 07/20/15
90043 | Polyfusion Electronics Inc. (State/One-Stop) | Lancaster, NY | 07/20/15 | 07/17/15
90044 | First Manufacturing Company, Inc. (State/One-Stop) | Oceanside, NY | 07/21/15 | 07/21/15
90045 | Englobal (State/One-Stop) | Tulsa, OK | 07/21/15 | 07/20/15
90046 | ConMed (Company) | Centennial, CO | 07/21/15 | 07/20/15
90047 | AthenaHealth, Inc. (Company) | Birmingham, AL | 07/21/15 | 07/20/15
90048 | Atmel (State/One-Stop) | Colorado Springs, CO | 07/21/15 | 07/20/15
90049 | Muffett and Sons Fencing LLC (State/One-Stop) | Zillah, WA | 07/21/15 | 07/21/15
90050 | Aegis USA Inc. (Workers) | Fairmont, WV | 07/21/15 | 07/17/15
90051 | Worldwide Imports Inc. (State/One-Stop) | Kent, WA | 07/21/15 | 07/08/15
90052 | Dyno Nobel Inc. (Union) | Salt Lake City, UT | 07/22/15 | 07/21/15
90053 | Wheelock Manufacturing (Company) | Morocco, IN | 07/22/15 | 07/21/15
90054 | Parallel Energy LP (State/One-Stop) | Tulsa, OK | 07/22/15 | 07/21/15
90055 | Eastman Chemical/Solution Inc. (State/One-Stop) | Springfield, MA | 07/22/15 | 07/21/15
90056 | Parker Hannifin Corporation (Company) | Beaufort, SC | 07/23/15 | 07/22/15
90057 | Union Pacific Railroad (State/One-Stop) | St. Paul, MN | 07/23/15 | 07/22/15
90058 | ICON Health & Fitness Inc. (Company) | Ogden, UT | 07/23/15 | 07/22/15
90059 | Radiant Thermal Prods Inc. (Workers) | Roselle, NJ | 07/23/15 | 07/21/15
90060 | Lenovo (State/One-Stop) | Morrisville, NC | 07/24/15 | 07/24/15

[FR Doc. 2015-20539 Filed 8-19-15; 8:45 am]

BILLING CODE 4510-FN-P